DEPARTMENT OF THE INTERIOR

National Park Service

[NPS-WASO-NAGPRA-NPS0034032; PPWOCRADN0-PCU00RP14.R50000]

Notice of Inventory Completion: San Diego Museum of Man, San Diego, CA; Correction

AGENCY: National Park Service, Interior.

ACTION: Notice; correction.

SUMMARY: The Museum of Us (formerly known as the San Diego Museum of Man) has corrected an inventory of human remains and associated funerary objects, published in a Notice of Inventory Completion in the Federal Register on August 8, 2018. This notice corrects the cultural affiliation. Lineal descendants or representatives of any Indian Tribe or Native Hawaiian organization not identified in this notice that wish to request transfer of control of these human remains and associated funerary objects should submit a written request to the Museum of Us. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Museum of Us at the address in this notice by July 14, 2022.

FOR FURTHER INFORMATION CONTACT: Carmen Mosley, NAGPRA Repatriation Manager, Museum of Us, 1350 El Prado, Balboa Park, San Diego, CA 92101 telephone (619) 239-2001 Ext. 38, email cmosley@museumofus.org.

SUPPLEMENTARY INFORMATION: Notice is here given in accordance with the Native American Graves Protection and Repatriation Act (NAGPRA), 25 U.S.C. 3003, of the correction of an inventory of human remains and associated funerary objects under the control of the Museum of Us, San Diego, CA. The human remains and associated funerary objects were removed from San Diego, San Diego County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the cultural affiliation published in a Notice of Inventory Completion in the Federal Register (83 FR 39124-39126, August 8, 2018). Within 30 days of publication of the notice, the Pechanga Band of Indians (previously listed as Pechanga Band of Luiseno Indians of the Pechanga Reservation, California) submitted a request for repatriation of the human remains of the four individuals and the 233 associated funerary objects listed in the notice, which had been removed from six San Diego County archeological sites within the vicinity of Agua Hedionda (CA-SDI-8797, CA-SDI-10671, CA-SDI-6132, CA-10673 (W-116, W-118, W-119, and W-129); CA-SDI-6134 (W-121); and SDM-W-124. Based on oral traditional, geographical, biological, and anthropological information, the Museum of Us has determined that the Pechanga Band of Indians (previously listed as Pechanga Band of Luiseno Indians of the Pechanga Reservation, California) are culturally affiliated with these human remains and associated funerary objects. Transfer of control of the items in this correction notice has not occurred.

Correction

In the Federal Register (83 FR 39125, August 8, 2018), column 1, paragraph 6 “Consultation” is corrected by substituting the following paragraph:

A detailed assessment of the human remains was made by the Museum of Us professional staff in consultation with the Campo Band of Diegueno Mission Indians of the Campo Indian Reservation, California; Capitan Grande Band of Diegueno Mission Indians of California (Barona Group of Captain Grande Band of Mission Indians of the Barona Reservation, California; Viejas (Baron Long) Group of Capitan Grande Band of Mission Indians of the Viejas Reservation, California); Ewiiaapaayp Band of Kumeyaay Indians, California; Iipay Nation of Santa Ysabel, California (previously listed as Santa Ysabel Band of Diegueno Mission Indians of the Santa Ysabel Reservation); Inaja Band of Diegueno Mission Indians of the Inaja and Cosmit Reservation, California; Jamul Indian Village of California; La Jolla Band of Luiseno Indians, California (previously listed as La Jolla Band of Luiseno Mission Indians of the La Jolla Reservation); La Posta Band of Diegueno Mission Indians of the La Posta Indian Reservation, California; Manzanita Band of Diegueno Mission Indians of the Manzanita Reservation, California; Mesa Grande Band of Diegueno Mission Indians of the Mesa Grande Reservation, California; Pala Band of Mission Indians (previously listed as Pala Band of Luiseno Mission Indians of the Pala Reservation, California); Pauma Band of Luiseno Mission Indians of the Pauma & Yuima Reservation, California; Pechanga Band of Indians (previously listed as Pechanga Band of Luiseno Indians of the Pechanga Reservation, California); San Pasqual Band of Diegueno Mission Indians of California; Rincon Band of Luiseno Mission Indians of the Rincon Reservation, California; Soboba Band of Luiseno Indians, California; and the Sycuan Band of the Kumeyaay Nation (hereafter referred to as the “The Tribes”).

In the Federal Register (83 FR 39126, August 8, 2018), column 1, paragraph 3, sentence 2 is corrected by substituting the following sentences:

During consultation, it was determined that these sites are located within Payómkawichum (“Luiseño”) Nation and Kumeyaay Nation shared territory and comprise one cemetery. Based on traditional funerary practices, all the objects from these sites are associated funerary objects.

In the Federal Register (83 FR 39126, August 8, 2018), column 2, paragraph 1, sentence 2 is corrected by substituting the following sentences:

During consultation, it was determined that this site is located within Payómkawichum (“Luiseño”) Nation and Kumeyaay Nation shared territory and is one cemetery. Based on traditional funerary practices, all the objects from this site are associated funerary objects.

In the Federal Register (83 FR 39126, August 8, 2018), column 2, paragraph 2, sentence 2 is corrected by substituting the following sentences:

During consultation, it was determined that this site is located within Payómkawichum (“Luiseño”) Nation and Kumeyaay Nation shared territory and is one cemetery. Based on traditional funerary practices, all the objects from this site are associated funerary objects.

In the Federal Register (83 FR 39126, August 8, 2018), column 2, paragraph 3, sentence 2 is corrected by substituting the following sentences:

These sites are all located within well-known and documented territories occupied by the Payomkawichum (Luiseno) and/or Kumeyaay Nations.

Additional Requestors and Disposition

Lineal descendants or representatives of any Indian Tribe or Native Hawaiian organization not identified in this notice that wish to request transfer of control of these human remains and associated funerary objects should submit a written request with information in support of the request to Carmen Mosley, NAGPRA Repatriation Manager, Museum of Us, 1350 El Prado, Balboa Park, San Diego, CA 92101, telephone (619) 239-2001 Ext. 38, email cmosley@museumofus.org, by July 14, 2022. After that date, if no additional requestors have come forward, transfer of control of the human remains and associated funerary objects to The Tribes may proceed.

The Museum of Us is responsible for notifying The Tribes that this notice has been published.

Dated: June 1, 2022.
Melanie O'Brien,
Manager, National NAGPRA Program.

[FR Doc. 2022-12426 Filed 6-8-22; 8:45 am]

BILLING CODE 4312-52-P